DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Electronic Response to Office Action and Preliminary Amendment Forms.

Form Number(s): PTO Form 1966 and PTO Form 1957.

Agency Approval Number: 0651-0050.

Type of Request: Extension of a currently approved collection.

Burden: 19,958 hours annually.

Number of Respondents: 117,400 responses per year.

Avg. Hours Per Response: The time needed to respond to the response to office action form and the preliminary amendment form is estimated to be 10 minutes (0.17 hours) each. This includes time to gather the necessary information, create the documents, and submit the completed requests.

Needs and Uses: This collection of information is required by the Trademark Act, 15 U.S.C. 1051 et. seq., which provides for the Federal registration of trademarks, service marks, collective trademarks and service marks, collective membership marks, and certification marks. Individuals and businesses who use their marks, or intend to use their marks, in interstate commerce, may file an application to register their mark. In some cases, the USPTO may issue Office Actions requesting missing information, or advising applicants of the refusal to register the mark. Applicants may also submit additional information voluntarily by providing a Preliminary Amendment. The USPTO administers the Trademark Act through 37 CFR Part 2, which contains the rules that implement the Act.

This collection of information is a matter of public record, and is used by the public for a variety of private business purposes related to establishing and enforcing trademark rights.

Affected Public: Individuals or households; business or other for-profit; not-for-profit institutions; farms; the federal Government; and state, local or tribal Government.

Frequency: On occasion.

Respondent's Obligation: Required to obtain or retain benefits.

OMB Desk Officer: David Rostker, (202) 395-3897.

Copies of the above information collection proposal can be obtained by any of the following methods:

• E-mail: Susan.Brown@uspto.gov. Include “0651-0050 copy request” in the subject line of the message.

• Fax: 571-273-0112, marked to the attention of Susan Brown.

• Mail: Susan K. Brown, Records Officer, Office of the Chief Information Officer, Architecture, Engineering and Technical Services, Data Architecture and Services Division, U.S. Patent and Trademark Office, P.O. Box 1450, Alexandria, VA 22313-1450.

Written comments and recommendations for the proposed information collection should be sent on or before April 3, 2006 to David Rostker, OMB Desk Officer, Room 10202, New Executive Office Building, Washington, DC 20503.

Dated: February 23, 2006.
Susan K. Brown,
Records Officer, USPTO, Office of the Chief Information Officer, Architecture, Engineering and Technical Services, Data Architecture and Services Division.

[FR Doc. E6-2965 Filed 3-1-06; 8:45 am]

BILLING CODE 3510-16-P